DEPARTMENT OF COMMERCE

International Trade Administration

Antidumping or Countervailing Duty Order, Finding, or Suspended Investigation; Advance Notification of Sunset Review

AGENCY: Enforcement and Compliance, International Trade Administration, Department of Commerce.

Background

Every five years, pursuant to the Tariff Act of 1930, as amended (the Act), the U.S. Department of Commerce (Commerce) and the U.S. International Trade Commission automatically initiate and conduct reviews to determine whether revocation of a countervailing or antidumping duty order or termination of an investigation suspended under section 704 or 734 of the Act would be likely to lead to continuation or recurrence of dumping or a countervailable subsidy (as the case may be) and of material injury.

Upcoming Sunset Reviews for November 2024

Pursuant to section 751(c) of the Act, the following Sunset Reviews are scheduled for initiation in November 2024 and will appear in that month's Notice of Initiation of Five-Year Sunset Reviews (Sunset Review).

| Department contact
Antidumping Duty Proceedings
Acetone from Belgium, A-423-814 (1st Review) | Jacqueline Arrowsmith, (202) 482-5255
Acetone from Korea, A-580-899 (1st Review) | Jacqueline Arrowsmith, (202) 482-5255
Acetone from Singapore, A-559-808 (1st Review) | Jacqueline Arrowsmith, (202) 482-5255
Acetone from South Africa, A-791-824 (1st Review) | Jacqueline Arrowsmith, (202) 482-5255
Acetone from Spain, A-469-819 (1st Review) | Jacqueline Arrowsmith, (202) 482-5255
Aluminum Wire and Cable from China, A-570-095 (1st Review) | Jacqueline Arrowsmith, (202) 482-5255
Carbon and Alloy Steel Threaded Rod from China, A-570-104 (1st Review) | Mary Kolberg, (202) 482-1785
Carbon and Alloy Steel Threaded Rod from India, A-533-887 (1st Review) | Mary Kolberg, (202) 482-1785
Carbon and Alloy Steel Threaded Rod from Taiwan, A-583-865 (1st Review) | Mary Kolberg, (202) 482-1785
Carbon and Alloy Steel Threaded Rod from Thailand, A-549-840 (1st Review) | Mary Kolberg, (202) 482-1785
Malleable Iron Pipe Fittings from China, A-570-881 (4th Review) | Mary Kolberg, (202) 482-1785
Mattresses from China, A-570-092 (1st Review) | Thomas Martin, (202) 482-3936
Steel Nails from China, A-570-909 (3rd Review) | Mary Kolberg, (202) 482-1785
Vertical Metal File Cabinets from China, A-570-110 (1st Review) | Jacqueline Arrowsmith, (202) 482-5255
Welded Stainless Steel Pressure Pipe from China, A-570-930 (3rd Review) | Thomas Martin, (202) 482-3936
Welded Stainless Steel Pressure Pipe from Malaysia, A-557-815 (2nd Review) | Thomas Martin, (202) 482-3936
Welded Stainless Steel Pressure Pipe from Thailand, A-549-830 (2nd Review) | Thomas Martin, (202) 482-3936
Welded Stainless Steel Pressure Pipe from Vietnam, A-552-816 (2nd Review) | Thomas Martin, (202) 482-3936
Countervailing Duty Proceedings
Aluminum Wire and Cable from China, C-570-096 (1st Review) | Jacqueline Arrowsmith, (202) 482-5255
Carbon and Alloy Steel Threaded Rod from China, C-570-105 (1st Review) | Mary Kolberg, (202) 482-1785
Carbon and Alloy Steel Threaded Rod from India, C-533-888 (1st Review) | Thomas Martin, (202) 482-3936
Vertical Metal File Cabinets from China, C-570-111 (1st Review) | Jacqueline Arrowsmith, (202) 482-5255
Welded Stainless Steel Pressure Pipe from China, C-570-931 (3rd Review) | Mary Kolberg, (202) 482-1785
Suspended Investigations
No Sunset Review of suspended investigations is scheduled for initiation in November 2024.

Commerce's procedures for the conduct of Sunset Review are set forth in 19 CFR 351.218. The Notice of Initiation of Five-Year (Sunset) Review provides further information regarding what is required of all parties to participate in Sunset Review.

Pursuant to 19 CFR 351.103(c), Commerce will maintain and make available a service list for these proceedings. To facilitate the timely preparation of the service list(s), it is requested that those seeking recognition as interested parties to a proceeding contact Commerce in writing within 10 days of the publication of the Notice of Initiation.

Please note that if Commerce receives a Notice of Intent to Participate from a member of the domestic industry within 15 days of the date of initiation, the review will continue.

Thereafter, any interested party wishing to participate in the Sunset Review must provide substantive comments in response to the notice of initiation no later than 30 days after the date of initiation. Note that Commerce has amended certain of its requirements pertaining to the service of documents in 19 CFR 351.303(f).¹

¹ See Administrative Protective Order, Service, and Other Procedures in Antidumping and Countervailing Duty Proceedings; Final Rule, 88 FR 67069 (September 29, 2023).

This notice is not required by statute but is published as a service to the international trading community.

Dated: September 20, 2024.
Scot Fullerton,
Acting Deputy Assistant Secretary for Antidumping and Countervailing Duty Operations.

[FR Doc. 2024-22489 Filed 9-30-24; 8:45 am]

BILLING CODE 3510-DS-P